DEPARTMENT OF TRANSPORTATION

National Highway Traffic Safety Administration

[Docket No. NHTSA-00-7570]

Highway Safety Programs; Model Specifications for Devices To Measure Breath Alcohol

AGENCY: National Highway Traffic Safety Administration, DOT.

ACTION: Notice.

SUMMARY: This notice amends the Conforming Products List for instruments that conform to the Model Specifications for Evidential Breath Testing Devices (58 FR 48705).

EFFECTIVE DATE: July 21, 2000.

FOR FURTHER INFORMATION CONTACT: Dr. James F. Frank, Office of Traffic Injury Control Programs, Impaired Driving Division (NTS-11), National Highway Traffic Safety Administration, 400 Seventh Street, SW, Washington, D.C. 20590; Telephone: (202) 366-5593.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices, and published a conforming Products List (CPL) of instruments that were found to conform to the Model Specifications as Appendix D to that notice (49 FR 48864).

On September 17, 1993, NHTSA published a notice (58 FR 48705) to amend the Model Specifications. The notice changed the alcohol concentration levels at which instruments are evaluated, from 0.000, 0.050, 0.101, and 0.151 BAC, to 0.000, 0.020, 0.040, 0.080, and 0.160 BAC; added a test for the presence of acetone; and expanded the definition of alcohol to include other low molecular weight alcohols including methyl or isopropyl. On June 4, 1999, the most recent amendment to the Conforming Products List (CPL) was published (64 FR 30097), identifying those instruments found to conform with the Model Specifications.

Since the last publication of the CPL, two (2) instruments have been evaluated and found to meet the model specifications, as amended on September 17, 1993, for mobile and non-mobile use. They are: (1) Intoxilyzer 400PA manufactured by CMI, Inc. of Owensboro, KY. This device is a hand-held breath tester with a fuel cell alcohol sensor. (2) Alco Sensor IV-XL manufactured by Intoximeters, Inc. of St. Louis, MO. This device is a hand-held breath tester with a fuel cell alcohol sensor that is microprocessor controlled. It is designed to minimize operator involvement in performing the test and processing the test data.

The CPL has been amended to add these two instruments to the list.

In accordance with the foregoing, the CPL is therefore amended, as set forth below.

Conforming Products List of Evidential Breath Measurement Devices
Manufacturer and model | Mobile | Nonmobile
Alcohol Countermeasure Systems Corp., Mississauga, Ontario, Canada:
Alert J3AD* | X | X
PBA3000C | X | X
BAC Systems, Inc., Ontario, Canada: Breath Analysis Computer* | X | X
CAMEC Ltd., North Shields, Tyne and Ware, England: IR Breath Analyzer* | X | X
CMI, Inc., Owensboro, KY:
Intoxilyzer Model:
200 | X | X
200D | X | X
300 | X | X
400 | X | X
400PA | X | X
1400 | X | X
4011* | X | X
4011A* | X | X
4011AS* | X | X
4011AS-A* | X | X
4011AS-AQ* | X | X
4011 AW* | X | X
4011A27-10100* | X | X
4011A27-10100 with filter* | X | X
5000 | X | X
5000 (w/Cal. Vapor Re-Circ.) | X | X
5000 (w ⅜″ ID Hose option) | X | X
5000CD | X | X
5000CD/FG5 | X | X
5000EN | X | X
5000 (CAL DOJ) | X | X
5000VA | X | X
PAC 1200* | X | X
S-D2 | X | X
Decator Electronics, Decator, IL: Alco-Tector model 500* |  | X
Draeger Safety, Inc., Durango, CO:
Alcotest Model:
7010* | X | X
7110* | X | X
7110 MKIII | X | X
7110 MKIII-C | X | X
7410 | X | X
7410 Plus | X | X
Breathalyzer Model:
900* | X | X
900A* | X | X
900BG* | X | X
7410 | X | X
7410-II | X | X
Gall's Inc., Lexington, KY: Alcohol Detection System-A.D.S. 500 | X | X
Intoximeters, Inc., St. Louis, MO:
Photo Electric Intoximeter* | X
GC Intoximeter MK II* | X | X
GC Intoximeter MK IV* | X | X
Auto Intoximeter* | X | X
Intoximeter Model:
3000* | X | X
3000 (rev B1)* | X | X
3000 (rev B2)* | X | X
3000 (rev B2A)* | X | X
3000 (rev B2A) w/FM option* | X | X
3000 (Fuel Cell)* | X | X
3000 D* | X | X
3000 DFC* | X | X
Alcomonitor |  | X
Alcomonitor CC | X
Alco-Sensor III | X | X
Alco-Sensor IV | X | X
Alco-Sensor IV-XL | XL | X
Alco-Sensor AZ | X | X
RBT-AZ | X | X
RBT III | X | X
RBT III-A | X | X
RBT IV | X | X
RBT IV with CEM (cell enhancement module) | X | X
Intox EC/IR | X | X
Portable Intox EC/IR | X | X
Komyo Kitagawa, Kogyo, K.K.:
Alcolyzer DPA-2* | X | X
Breath Alcohol Meter PAM 101B* | X | X
Lifeloc Technologies, Inc., (formerly Lifeloc, Inc.), Wheat Ridge, CO:
PBA 3000B | X | X
PBA 3000-P* | X | X
PBA 3000C | X | X
Alcohol Data Sensor | X | X
Phoenix | X | X
Lion Laboratories, Ltd., Cardiff, Wales, UK:
Alcolmeter Model:
300 | X | X
400 | X | X
AE-D1* | X | X
SD-2* | X | X
EBA* | X | X
Auto-Alcolmeter* | X
Intoxilyzer Model:
200 | X | X
200D | X | X
1400 | X | X
5000 CD/FG5 | X | X
5000 EN | X | X
Luckey Laboratories, San Bernadino, CA:
Alco-Analyzer Model:
1000* |  | X
2000* | X
National Draeger, Inc., Durango, CO:
Alcotest Model:
7010* | X | X
7110* | X | X
7110 MKIII | X | X
7110 MKIII-C | X | X
7410 | X | X
7410 Plus | X | X
Breathalyzer Model:
900* | X | X
900A* | X | X
900BG* | X | X
7410 | X | X
7410-II | X | X
National Patent Analytical Systems, Inc., Mansfield, OH:
BAC DataMaster (with or without the Delta-1 accessory) | X | X
BAC Verifier Datamaster (with or without the Delta-1 accessory) | X | X
DataMaster cdm (with or without the Delta-1 accessory) | X | X
Omicron Systems, Palo Alto, CA:
Intoxilyzer Model:
4011* | X | X
4011AW* | X | X
Plus 4 Engineering, Minturn, CO: 5000 Plus4* | X | X
Seres, Paris, France:
Alco Master | X | X
Alcopro | X | X
Siemans-Allis, Cherry Hill, NJ:
Alcomat* | X | X
Alcomat F* | X | X
Smith and Wesson Electronics, Springfield, MA:
Breathalyzer Model:
900* | X | X
900A* | X | X
1000* | X | X
2000* | X | X
2000 (non-Humidity Sensor)* | X | X
Sound-Off, Inc., Hudsonville, MI:
AlcoData | X | X
Seres Alco Master | X | X
Seres Alcopro | X | X
Stephenson Corp.: Breathalyzer 900* | X | X
U.S. Alcohol Testing, Inc./Protection Devices, Inc., Rancho Cucamonga, CA:
Alco-Analyzer 1000 |  | X
Alco-Analyzer 2000 |  | X
Alco-Analyzer 2100 | X | X
Verax Systems, Inc., Fairport, NY:
BAC Verifier* | X | X
BAC Verifier Datamaster | X | X
BAC Verifier Datamaster II* | X | X
*Instruments marked with an asterisk (*) meet the Model Specifications detailed in 49 FR 48854 (December 14, 1984) (i.e., instruments tested at 0.000, 0.050, 0.101, and 0.151 BAC.) Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

(23 U.S.C. 402; delegations of authority at 49 CFR 1.50 and 501.1)
Issued on: July 17, 2000.
Rose A. McMurray,
Associate Administrator for Traffic Safety Programs.

[FR Doc. 00-18455 Filed 7-20-00; 8:45 am]

BILLING CODE 4910-59-P